FEDERAL COMMUNICATIONS COMMISSION

Public Information Collections Approved by Office of Management and Budget

April 22, 2003.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0848.

OMB Approval date: 03/24/2003.

Expiration Date: 03/31/2006.

Title: Deployment of Wireline Servies Offering Advanced Telecommunications Capability, CC Docket No. 98-147.

Form No.: N/A.

Estimated Annual Burden: 1,750 responses; 165,600 total annual hours; 95 hours per respondent.

Needs and Uses: The requirements implement section 251 of the Communications Act of 1934, as amended, to promote deployment of advanced services without significantly degrading the performance of other services. All the requirements will be used by the Commission and competitive local exchange carriers (CLECs) to facilitate the deployment of advanced data services and to implement section 251 of the Act.

OMB Control No.: 3060-0806.

OMB Approval Date: 03/24/2003.

Expiration Date: 03/31/2006.

Title: Universal Service—Schools and Libraries Universal Service Program.

Form No.: 470 & 471.

Estimated Annual Burden: 60,000 responses; 440,000 total annual hours; 7.3 hours per respondent.

Needs and Uses: The Commission adopted rules providing support for all telecommunications services, Internet access, and internal connections for all eligible schools and libraries. To participate in the program, schools and libraries must submit a description of the services desired to the Administrator via FCC Form 470. FCC Form 471 is submitted by schools and libraries that have ordered telecommunications services, internet access, & internal connections. The data is used to determine eligibility. The Commission revised the FCC Form 471 and instructions to make it possible to read with electronic readers, to update references to current deadlines dates and relevant statutes, and to clarify explanations to make the form generally easier to understand. The collection requirements haven't changed.

OMB Control No.: 3060-0513.

OMB Approval Date: 04/15/2003.

Expiration Date: 04/30/2006.

Title: ARMIS Joint Cost Report.

Form No.: FCC-43-03.

Estimated Annual Burden: 85 responses; 6,460 total annual hours; 76 hours per respondent.

Needs and Uses: The Joint Cost Report is needed to administer our joint cost rules (part 64) and to analyze data in order to prevent cross-subsidization of non-regulated operations by the regulated operations of Tier 1 carriers.

OMB Control No.: 3060-0763.

OMB Approval date: 04/15/2003.

Expiration Date: 04/30/2006.

Title: The ARMIS Customer Satisfaction Report.

Form No.: FCC-43-06.

Estimated Annual Burden: 7 responses; 5,040 total annual hours; 720 hours per respondent.

Needs and Uses: The Customer Satisfaction Report reflects the results of customer satisfaction based on surveys conducted by individual carriers from their customers.

OMB Control No.: 3060-0512.

OMB Approval date: 04/15/2003.

Expiration Date: 04/30/2006.

Title: The ARMIS Annual Summary Report.

Form No.: FCC-43-01.

Estimated Annual Burden: 115 responses; 10,695 total annual hours; 93 hours per respondent.

Needs and Uses: The Annual Summary Report contains financial and operating data and is used to monitor the incumbent local exchange carrier industry and to perform routine analyses of costs and revenues on behalf of the Commission.

OMB Control No.: 3060-0395.

OMB Approval Date: 04/15/2003.

Expiration Date: 04/30/2006.

Title: The Armis USOA Report (ARMIS Report 43-02); The ARMIS Service Quality Report (ARMIS Report 43-05); and the ARMIS Infrastructure Report (ARMIS Report 43-07).

Form No.: FCC-43-02, FCC-43-05, FCC-43-07.

Estimated Annual Burden: 49 responses; 23,677 total annual hours; 483 hours per respondent.

Needs and Uses: The USOA Report provides the annual results of the carriers' activities for each account of the Uniform System of Accounts. The Service Quality Report provides service quality information in the areas of interexchange access service, installation and repair intervals, local service installation and repair intervals, trunk blockage, and total switch downtime for price cap carriers. The Infrastructure Report provides switch deployment and capabilities data.

OMB Control No.: 3060-0972.

OMB Approval date: 03/13/2003.

Expiration Date: 03/31/2006.

Title: Multi-Association Group (MAG) Plan for Regulation of Interstate Services of Non-Price Cap Incumbent Local Exchange Carriers and Interexchange Carriers.

Form No.: FCC-507, FCC-508, FCC-509.

Estimated Annual Burden: 5,555 responses; 31,725 total annual hours; 5.7 hours per respondent.

Needs and Uses: The Commission modified, on its own motion, the data collection and filing procedures for implementation of the Interstate Common Line Support (ICLS) mechanism, in order to ensure timely implementation of the ICLS mechanism on July 1, 2002, as adopted in the MAG Order. The Commission will use the information to determine whether and to what extent non-price cap or rate of return carriers are providing the data eligible to receive universal service support. The tariff data is used to make sure the rates are just and reasonable.

OMB Control No.: 3060-0855.

OMB Approval Date: 04/03/2003.

Expiration Date: 04/30/2006.

Title: Telecommunications Reporting Worksheet, CC Docket No. 96-45.

Form No.: FCC-499-A, FCC-499-Q.

Estimated Annual Burden: 15,500 responses; 164,487 total annual hours; 10.6 hours per respondent.

Needs and Uses: Pursuant to the Communications Act of 1934, as amended, telecommunications carriers (and certain other providers of telecommunications services) must contribute to the support and cost recovery mechanisms for telecommunications relay services, numbering administration, number portability, and universal service. The Commission modified the existing methodology used to assess contributions that carriers make to the federal universal service support mechanisms. The modifications adopted, will entail altering to the current revenue reporting requirements to which interstate telecom. carriers are subject under part 54 of the Commission's rules.

OMB Control No.: 3060-0511.

OMB Approval date: 04/15/2003.

Expiration Date: 04/30/2006.

Title: ARMIS Access Report.

Form No.: FCC-43-04.

Estimated Annual Burden: 84 responses; 13,188 total annual hours; 140.3 hours per respondent.

Needs and Uses: The Access Report is needed to administer the Commission's accounting, jurisdicational separations and access charge rule; to analyze revenue requirements and rates of return, and to collect financial data from Tier 1 incumbent local exchange carriers.

OMB Control No.: 3060-0496.

OMB Approval date: 04/15/2003.

Expiration Date: 04/30/2006.

Title: The ARMIS Operating Data Report.

Form No.: FCC-43-08.

Estimated Annual Burden: 53 responses; 7,367 total annual hours; 139 hours per respondent.

Needs and Uses: The Operating Data Report collects annual statistical data in a consistent format that is essential for the Commission to monitor network growth, usage, and reliability.

Federal Communications Commission.
Marlene H. Dortch,
Secretary.

[FR Doc. 03-10735 Filed 4-30-03; 8:45 am]

BILLING CODE 6712-01-P